DEPARTMENT OF STATE

[Public Notice 6773]

Bureau of Educational and Cultural Affairs

Notice: Amendment to original Request for Grant Proposals (RFGP) (Critical Language Scholarships for Intensive Summer Institutes—Reference Number ECA/A/E-10-01).

Summary: The United States Department of State, Bureau of Educational and Cultural Affairs, announces revisions to the original RFGP (Public Notice 6640) announced in the Federal Register on Thursday, May 28, 2009 (Federal Register Volume 74, Number 101):

(1) Due to a typographic error on page 25600, Section II. Award Information, it should be noted that the anticipated award date is October 1, 2009 and not October 1, 2010. This section should read: “Anticipated Award Date: Pending availability of funds, the proposed start date is October 1, 2009.”

(2) The deadline for proposals for Critical Language Scholarships for Intensive Summer Institutes has been extended to July 17, 2009.

(3) All other terms and conditions of the original RFGP remain the same.

Additional Information: As stated in the original RFGP, interested organizations should contact Heidi Manley, Program Officer at 202-453-8534 or by e-mail at ManleyHL@state.gov for additional information regarding the Critical Language Scholarships for Intensive Summer Institutes prior to the application deadline.

Dated: June 12, 2009.
C. Miller Crouch,
Acting Assistant Secretary for Educational and Cultural Affairs, Department of State.

[FR Doc. E9-14339 Filed 6-17-09; 8:45 am]

BILLING CODE 4710-05-P